DEPARTMENT OF LABOR

Employment and Training Administration

[TA-W-39,565C]

Thomaston Mills, Inc. Corporation Office, Thomaston, GA, Including an Employee of Thomaston Mills, Inc. Corporate Office, Thomaston, GA Located in Arlington Heights, IL; Amended Certification Regarding Eligibility To Apply for Worker in Adjustment Assistance

In accordance with Section 223 of the Trade Act of 1974 (19 U.S.C. 2273) the Department of labor issued a Certification of Eligibility to Apply for Worker Adjustment Assistance on November 15, 2001, applicable to workers of Thomaston Mills, Inc., Corporate Office, Thomaston, Georgia. The notice was published in the Federal Register on November 30, 2001 (66 FR 59817).

At the request of a petitioner, the Department reviewed the certification for workers of the subject firm. New information shows that a worker separation occurred involving an employee of the Corporate Office, Thomaston, Georgia facility of Thomaston Mills, Inc., located in Arlington Heights, Illinois. This employee was engaged in employment related to the production of sheets, pillowcases and comforters and related accessories at the Corporation Office, Thomaston, Georgia location of the subject firm.

Based on these findings, the Department is amending this certification to include an employee of the Corporate Office of Thomaston Mills, Inc., Thomaston, Georgia, located in Arlington Heights, Illinois.

The intent of the Department's certification is to include all workers of Thomaston Mills, Inc. adversely affected by increased imports.

The amended notice applicable to TA-W-39,565C is hereby issued as follows:

All workers of Thomaston Mills, Inc., Corporate Office, Thomaston, Georgia, including a worker the Corporate Office, Thomaston, Georgia, located in Arlington Heights, Illinois, engaged in employment related to the production of sheets, pillowcases and comforters and related accessories who became totally or partially separated from employment on or after June 20, 2000, through November 15, 2003, are eligible to apply for adjustment assistance under Section 223 of the Trade Act of 1974.

Signed at Washington, DC, this 4th day of January, 2002.
Linda G. Poole,
Certifying Officer, Division of Trade Adjustment Assistance.

[FR Doc. 02-2346 Filed 1-30-02; 8:45 am]

BILLING CODE 4510-30-M